DEPARTMENT OF ENERGY

Office of Energy Efficiency and Renewable Energy

Sources Sought for Superconductivity Program for Electric Power Systems

AGENCY: Golden Field Office; Office of Energy Efficiency and Renewable Energy; Department of Energy (DOE).

ACTION: Notice of Financial Assistance Solicitation—DOE Superconductivity Partnership Initiative (SPI) Program.

SUMMARY: The DOE Office of Power Technologies intends to issue a solicitation for proposals under which several competitive financial assistance awards will be made in support of the DOE SPI Program in Fiscal Year 2001. Expression of interest in this solicitation is requested at this time. In addition, it is requested that interested parties comment regarding the approach to be followed in the anticipated solicitation as described below.

DATES: DOE is requesting expressions of interest and comments in responding to the contemplated solicitation by August 31, 2000.

FOR FURTHER INFORMATION CONTACT: U.S. Department of Energy, Golden Field Office, 1617 Cole Boulevard, Golden, CO 80401. The Project Engineer is Russell Eaton, at (303) 275-4740 or e-mail at russell_eaton@nrel.gov. The Contract Specialist is James McDermott, at FAX: (303) 275-4788 or e-mail at jim_mcdermott@nrel.gov.

SUPPLEMENTARY INFORMATION: The office of Power Technologies of the DOE Office of Energy Efficiency and Renewable Energy (EERE) intends to issue a solicitation in early Fiscal Year 2001 for SPI. DOE, as part of its Superconductivity Program for Electric Power Systems, is currently pursuing the development of electric power equipment incorporating High Temperature Superconductors (HTS) through its SPI. The purpose of the SPI is to accelerate the time for the initial commercialization of energy-saving HTS electric power equipment. DOE intends to share the costs of the projects to be awarded under this new solicitation with industry partners' contributions being at least half of a project's costs (statutory requirement). DOE intends that its industry partners will be vertically integrated teams composed of equipment manufacturers, HTS wire and coil suppliers, component suppliers, and end users (primarily utilities). Each partnership may, at its option, utilize via a Cooperative Research and Development Agreement (CRADA) with any of the DOE's national laboratories. The laboratory could contribute specialized capabilities, facilities, or equipment to the project that would complement the partnership's needs. These teams carry out the multi-year technology developmental efforts, consisting of design, construction, installation and testing phases. The DOE currently has seven SPI projects for the following equipment: flywheel energy storage system, magnetic separator unit, motors, transformers, and underground AC cables. DOE is eager to increase the diversity of its portfolio of HTS power system applications.

DOE is contemplating issuing a solicitation early in FY2001 in response to the continuing interest in the SPI by its industrial stakeholders and due to the impressive technical progress by the participating industry teams involved in current SPI activities with DOE. DOE anticipates that awards will be made to teams for projects ranging in size from hundreds of thousands of dollars to several million dollars per year and for project periods of up to four years. Subject to the availability of funds, it is anticipated that the DOE funding for the contemplated solicitation will be no more than $7 million in the first year, and no more than $9 million for each of the following 3 years. The SPI awards will be cost-shared cooperative agreements between DOE and the prime of the industry-led team. The anticipated solicitation intends to combine the requirement of earlier SPI solicitations for the development of full-scale, pre-commercial power applications, utilizing essentially available HTS conductors, e.g., BSCCO multi-filamentary tapes and forms. The solicitation also intends to assess the potential impacts of replacing available HTS conductors with promising coated HTS conductors, currently under development, into the proposed power application. DOE also expects the solicitation will require that the application include an energy and economic benefits analysis, technical performance expectations, product or system design studies, and a business plan for product introduction.

Respondents to this notice should notify DOE of their interest in submitting a proposal to the anticipated solicitation. In addition, information or comments to assist in drafting the solicitation will be appreciated.

Issued in Golden, Colorado, on August 15, 2000.
Matthew A. Barron,
Contracting Officer, Golden Field Office.

[FR Doc. 00-21503 Filed 8-22-00; 8:45 am]

BILLING CODE 6450-01-P